DEPARTMENT OF HOMELAND SECURITY

Coast Guard

33 CFR Part 165

[Docket No. USCG-2015-0656]

Safety Zones; Recurring Events in Captain of the Port Boston Zone

AGENCY: Coast Guard, DHS.

ACTION: Notice of enforcement of regulation.

SUMMARY: The Coast Guard will enforce a safety zones in the Captain of the Port Boston Zone on the specified dates and times listed below. This action is necessary to ensure the protection of the maritime public and event participants from the hazards associated with this annual recurring event. No person or vessel, except for the safety vessels assisting with the event may enter the safety zones unless given permission from the COTP or the designated on-scene representative. The Coast Guard may be assisted by other Federal, State, or local law enforcement agencies in enforcing this regulation.

DATES: The regulation for the safety zones described in 33 CFR 165.118 will be enforced between August 1, 2015, and August 15, 2015, on the date and times listed in the table below.

FOR FURTHER INFORMATION CONTACT: If you have questions on this notice, call or email Mr. Mark Cutter, Coast Guard Sector Boston Waterways Management Division, telephone 617-223-4000, email Mark.E.Cutter@uscg.mil.

SUPPLEMENTARY INFORMATION: The Coast Guard will enforce the safety zones listed in 33 CFR 165.118 on the specified dates and times as indicated in Table 1 below. This regulation was published in the Federal Register on November 8, 2013 (78 FR 67028).

Table 1
7.13 Yankee Homecoming Fireworks | • Event Type: Fireworks Display. • Sponsor: Yankee Homecoming. • Date: August 1, 2015. • Time: 9:15 p.m. to 10:15 p.m. • Location: All waters of the Merrimack River, within a 350-yard radius of the fireworks launch site located at position 42°48.97′ N., 070°52.68′ W. (NAD 83).
8.1 Beverly Homecoming Fireworks | • Event Type: Fireworks Display. • Sponsor: Beverly Harbormaster. • Date: August 9, 2015. • Time: 9:00 p.m. to 11:00 p.m. • Location: All waters of Beverly Harbor within a 350-yard radius of the fireworks barge located at position 42°32.62′ N., 070°52.15′ W. (NAD 83).
8.5 Celebrate the Clean Harbor Swim | • Event Type: Swim. • Sponsor: New England Open Water Swimming Association. • Date: August 15, 2015. • Time: 9:00 a.m. to 12:00 p.m. • Location: All waters of Gloucester Harbor within the following points (NAD 83):
| 42°35.3′ N., 070°39.8′ W. 42°35.9′ N., 070°39.2′ W. 42°35.9′ N., 070°39.8′ W. 42°35.3′ N., 070°40.2′ W.
8.6 Boston Light Swim | • Event Type: Swim. • Sponsor: Boston Light Swim. • Date: August 15, 2015. • Time: 7:00 a.m. to 12:00 p.m. • Location: All waters of Boston Harbor between the L Street Bath House and Little Brewster Island within the following points (NAD 83):
| 42°19.7′ N., 071°02.2′ W. 42°19.9′ N., 071°10.7′ W. 42°19.8′ N., 070°53.6′ W. 42°19.6′ N., 070°53.4′ W.
8.8 The Boston Triathlon | • Event Type: Swim. • Sponsor: Ethos. • Date: August 9, 2015. • Time: 8:00 a.m. to 10:00 a.m. • Location: All waters of Columbus Park, Boston, Ma within the following points (NAD 83):
| 42°19.6′ N., 071°02.9′ W. 42°19.6′ N., 071°02.6′ W. 42°19.4′ N., 071°02.6′ W. 42°19.4′ N., 071°02.8′ W.

This notice is issued under authority of 33 CFR 165.118 and 5 U.S.C. 552(a). In addition to this notice in the Federal Register, the Coast Guard will provide mariners with advanced notification of enforcement periods via the Local Notice to Mariners and Broadcast Notice to Mariners. If the COTP determines that the regulated areas need not be enforced for the full duration stated in this notice, a Broadcast Notice to Mariners may be used to grant general permission to enter the regulated areas.

Dated: July 9, 2015.
C.C. Gelzer,
Captain, U.S. Coast Guard, Captain of the Port Boston.

[FR Doc. 2015-18389 Filed 7-24-15; 8:45 am]

BILLING CODE 9110-04-P